DEPARTMENT OF COMMERCE

National Oceanic and Atmospheric Administration

RIN 0648-XC799

Gulf of Mexico Fishery Management Council; Public Meeting

AGENCY: National Marine Fisheries Service (NMFS), National Oceanic and Atmospheric Administration (NOAA), Commerce.

ACTION: Meeting of the Gulf of Mexico Fishery Management Council.

SUMMARY: The Gulf of Mexico Fishery Management Council (Council) will hold meetings of the: Sustainable Fisheries/Ecosystem, Red Drum, Mackerel, Ad Hoc Restoration, Administrative Policy, Advisory Panel Selection, Reef Fish, Data Collection, and Joint Coral/Habitat Protection Management Committees; and a meeting of the Full Council. The Council will also hold an informal public question and answer session regarding agenda items and a formal public comment session.

DATES: The Council meeting will be held from 11 a.m. on Monday, August 26 until 4 p.m. on Thursday, August 29, 2013.

ADDRESSES: The meeting will be held at the Hilton Palacio del Rio Hotel, 200 South Alamo Street, San Antonio, TX 78205; telephone: (210) 222-1400.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion for each individual management committee agenda are as follows:

New Council Member Orientation, Monday, August 26, 2013, 9 a.m. Until 11 a.m.

Brief overview of Gulf Council history, procedures, and ongoing actions.

Sustainable Fisheries/Ecosystem Management Committee, Monday, August 26, 2013, 11 a.m. Until 11:30 a.m.

Receive a summary on the South Florida Management workshops.

Red Drum Management Committee Agenda, Monday, August 26, 2013, 1 p.m. Until 1:30 p.m.

Receive an update on Gulf of Mexico red drum data collection.

Mackerel Management Committee Agenda, Monday, August 26, 2013, 1:30 p.m. Until 3 p.m.

1. Review SEDAR 28 Gulf of Mexico Spanish mackerel Stock Assessments

2. Review public hearing comments and actions in Coastal Migratory Pelagics (CMP) Amendments 19 and 20 Public Hearing Drafts.

3. Discuss the schedule and timing for CMP Amendment 22—Recreational and Commercial Allocation of king mackerel.

Ad Hoc Restoration Committee Agenda, Monday, August 26, 2013, 3 p.m. Until 3:30 p.m.

1. Receive an update on the development plan for RESTORE's Marine Science Fund.

2. Summary of NOAA RESTORE Act Science Program Public Engagement Session.

Administrative Policy Committee Agenda, Monday August 26, 2013, 3:30 p.m. Until 4 p.m.

1. Discuss the Administrative Handbook and SOPPs.

Advisory Panel Selection Committee Agenda, Monday, August 26, 2013, 4 p.m. Until 5 p.m.

(Note: This meeting will be a CLOSED session)

1. The Full Council in a CLOSED SESSION will appoint members to the Ad Hoc Red Snapper Individual Fishing Quota Advisory Panel.

2. Other Council business items.

Reef Fish Management Committee Agenda, Tuesday, August 27, 2013, 8:30 a.m. Until 12 noon and 1:30 p.m. Until 5:30 p.m.

1. Receive a summary from the August 2013 Reef Fish SSC Meeting.

2. Discussion of Spawning Potential Ratio (SPR) Target Options.

3. Take Final Action on Individual Fishing Quotas (IFQ) Administrative Rule Changes.

4. Review Amendment 39—Recreational Red Snapper Regional Management.

5. Review IFQ Inter-sector Trading Scoping Document.

6. Review Amendment 28—Red Snapper Allocation Options Paper.

7. Discuss Passengers on Dual-permitted Commercial Fishing Vessels

8. Receive an update on Red Snapper Recreational Landings and Supplemental Fall Season.

9. Discuss the 2014 Red Snapper Update Assessment and possible management actions.

10. Discuss Exempted Fishing Permits related to Reef Fish (if any).

Note: Immediately following committee recess will be an informal public Question and Answer Session on Gulf of Mexico fishery management issues on Tuesday, August 27, 2013.

Data Collection Management Committee Agenda, Wednesday, August 28, 2013, 8:30 a.m. Until 9 a.m.

1. Receive status update on modifications to the Federally-Permitted Seafood Dealer Reporting requirements.

2. Receive an update on the results of the Peer Reviewed Data Collection and Management Programs for the Magnuson-Stevens Managed Stocks.

Joint Coral/Habitat Protection Management Committee Agenda, Wednesday, August 28, 2013, 9 a.m. Until 10 a.m.

Receive a summary from the May 2013 Coral Workshop on Interrelationships between Corals and Fisheries.

Council Session Agenda, Wednesday, August 28, 2013, 10 a.m. Until 4 p.m.

10 a.m.-10:15 a.m.: Call to Order and Introductions, Induction of New Council Members, adoption of agenda and approval of minutes.

10:15 a.m.-11:30 a.m.: The Council will receive a Budget 101 overview.

1 p.m.-4 p.m.: The Council will receive public testimony on Final Action—IFQ Administrative Rule Changes, Mackerel Amendment 19—Coastal Migratory Pelagics Sale and Permit Provisions, Mackerel Amendment 20—Modifications to the Coastal Migratory Pelagics Zone Management, and Reef Fish Amendment 39—Regional Management of Recreational Red Snapper. The Council will also hold an open public comment period regarding any other fishery issues or concerns. People wishing to speak before the Council should complete a public comment card prior to the comment period.

4 p.m.-4:15 p.m.: The Council will review and vote on Exempted Fishing Permits (EFP), if any.

4:15 p.m.-5:15 p.m.: The Council will receive committee reports from the Advisory Panel Selection, Ad Hoc Restoration, Red Drum, and Sustainable Fisheries/Ecosystem Management Committees.

Council Session Agenda, Thursday, August 29, 2013, 8:30 a.m. Until 4 p.m.

8:30 a.m.-2:30 p.m.: The Council will continue to receive committee reports from Coral/Habitat Protection, Data Collection, Mackerel, Administrative Policy and Reef Fish Management Committees.

2:30 p.m.-3:30 p.m.: The Council will review Other Business items: Amendment 7 to the Highly Migratory Species Fishery Management Plans (FMP) and review of the SEDAR schedule.

3:30 p.m.-3:45 p.m.: The Council will review the Action Schedule.

3:45 p.m.-4 p.m.: The Council will hold an election of the Chair and Vice Chair.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: August 5, 2013.
Tracey L. Thompson,
Acting Deputy Director, Office of Sustainable Fisheries, National Marine Fisheries Service.

[FR Doc. 2013-19246 Filed 8-8-13; 8:45 am]

BILLING CODE 3510-22-P